DEPARTMENT OF COMMERCE

National Oceanic and Atmospheric Administration

RIN 0648-XG913

Marine Mammals; File Nos. 22289, 22293, and 22298

AGENCY: National Marine Fisheries Service (NMFS), National Oceanic and Atmospheric Administration (NOAA), Commerce.

ACTION: Notice; receipt of application.

SUMMARY: Notice is hereby given that Alaska Fisheries Science Center's Marine Mammal Laboratory (MML) 7600 Sand Point Way NE, Seattle, WA 98115-0070 (Responsible Party: John Bengston), Alaska Sea Life Center (ASLC) P.O. Box 1329, 301 Railway Avenue, Seward, AK 99664 (Responsible Party: Tara Reimer), and Alaska Department of Fish and Game (ADF&G) P.O. Box 25526, Juneau, AK 99802-5526 (Responsible Party: Michael Rehberg), have applied in due form for permits to conduct research on Steller sea lions (Eumetopias jubatus).

DATES: Written, telefaxed, or email comments must be received on or before May 16, 2019.

ADDRESSES: The applications and related documents are available for review by selecting “Records Open for Public Comment” from the “Features” box on the Applications and Permits for Protected Species (APPS) home page, https://apps.nmfs.noaa.gov, and then selecting File Nos. 22289 (MML), 22293 (ASLC), or 22298 (ADF&G) from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

For File No. 22289: MML proposes to conduct research to measure population status, vital rates, foraging ecology, habitat requirements, and effects of natural and anthropogenic factors impacting Steller sea lion populations pursuant to fulfilling the NMFS legal requirements under the MMPA and ESA, and to test hypotheses of mechanisms underlying population trends. Studies will occur in Alaska, Washington, Oregon and California. Proposed take activities include surveys (aerial, vessel, and land) including unmanned aircraft systems (UAS), capture and handling, marking, hot branding, sampling (including but not limited to blood, blubber, swabs of all mucus membranes and lesions, skin samples, vibrissae, feces, urine, hair, and nail), tagging, and incidental disturbance. Up to 36,200 animals may be disturbed by surveys, and up to 629 animals captured, sampled and released for vital rates, foraging ecology and/or health studies per year. MML requests two unintentional mortalities annually from each the eastern and western distinct population segments (eDPS and wDPS). Non-target species that may be disturbed incidentally to these studies include northern fur seals (Callorhinus ursinus), California sea lions (Zalophus californianus), northern elephant seals (Mirounga angustirostris), and harbor seals (Phoca vitulina). Collected tissue samples may be exported for analysis. The requested duration of this permit is five years.

For File No. 22293: ASLC proposes to conduct research to monitor population vital rates of the wDPS of Steller sea lions and determine what factors most affect vital rates and the potential for population recovery, focusing on population dynamics, health, diet, and behavior. Individuals may be taken in the Gulf of Alaska and Aleutian Islands by the following means with maximum number of takes per year in parentheses: disturbance associated with capture, observational studies, and material/scat/carcass collection (14,000); capture, restraint, and sampling (125); and remote biopsy (150). Captured sea lions will undergo morphometric measurements, blood and tissue collection, digital imaging, hot-branding, body condition measurement, whisker, hair, and milk sampling, temporary marking, and ultrasound exams. ASLC requests three unintentional mortalities annually from the wDPS. Non-target species that may be disturbed incidentally to these studies include harbor seals and California sea lions. The requested duration of this permit is five years.

For File No. 22298: ADF&G proposes to continue their long-term Steller sea lion research program, to investigate causes for recovery trends observed in the wDPS, collecting survival and reproduction data in both DPSs, investigating movement between and within DPSs, and monitoring the eDPS for various threats subsequent to delisting. Proposed methods include: incidental disturbance during aerial (including UAS), vessel and ground-based count and brand resight surveys (up to 190,640 disturbance takes) ; captures (up to 1,690 individuals) supporting marking, external instrument attachment, and physiology, toxicology, feeding ecology and health sampling; and permanent marking (hot branding) of pups and older age classes for describing vital rates and DPS movement. ADF&G requests three unintentional mortalities annually from each the wDPS and eDPS. Non-target species that may be disturbed incidentally to these studies include northern fur seals, California sea lions, and harbor, spotted (Phoca largha), ribbon (Histriophoca fasciata), ringed (Pusa hispida), and bearded (Erignathus barbatus) seals. The requested duration of this permit is five years.

In compliance with the National Environmental Policy Act of 1969 (42 U.S.C. 4321 et seq.), an initial determination has been made that the activities proposed are consistent with the Preferred Alternative in the Final Programmatic Environmental Impact Statement for Steller Sea Lion and Northern Fur Seal Research (NMFS 2007) and a supplemental environmental assessment (EA; NMFS 2014) prepared for the addition of unmanned aerial surveys to the suite of Steller sea lion research activities analyzed under the EIS that concluded that issuance of the permits would not have a significant adverse impact on the human environment. An environmental review memo is being prepared to summarize these findings.

Concurrent with the publication of this notice in the Federal Register, NMFS is forwarding copies of the application to the Marine Mammal Commission and its Committee of Scientific Advisors.

Dated: April 11, 2019.
Amy Sloan,
Acting Chief, Permits and Conservation Division, Office of Protected Resources, National Marine Fisheries Service.

[FR Doc. 2019-07529 Filed 4-15-19; 8:45 am]

BILLING CODE 3510-22-P